DEPARTMENT OF LABOR

Employment and Training Administration

[TA-W-72,846]

Hewlett Packard, Technical Support Call Center, Including On-Site Leased Workers From Manpower, Volt, Adecco, Radiant Systems, and Kelly Services, Boise, ID; Amended Certification Regarding Eligibility To Apply for Worker Adjustment Assistance

In accordance with Section 223 of the Trade Act of 1974, as amended (“Act”), 19 U.S.C. 2273, the Department of Labor issued a Certification of Eligibility to apply for Worker Adjustment Assistance on February 1, 2010, applicable to workers of Hewlett Packard, Technical Support Call Center, including on-site leased workers from Manpower, Volt, and Adecco, Boise, Idaho. The notice was published in the Federal Register March 12, 2010 (75 FR 11924).

At the request of the State Agency, the Department reviewed the certification for workers of the subject firm. The workers are engaged in activities related to technical support services.

The company reports that workers leased from Radiant Systems and Kelly Services were employed on-site at the Boise, Idaho location of Hewlett Packard, Technical Support Call Center. The Department has determined that these workers were sufficiently under the control of the subject firm to be considered leased workers.

Based on these findings, the Department is amending this certification to include workers leased from Radiant Systems and Kelly Services working on-site at the Boise, Idaho location of Hewlett Packard, Technical Support Call Center.

The amended notice applicable to TA-W-72,846 is hereby issued as follows:

All workers of Hewlett Packard, Technical Support Call Center, including on-site leased workers from Manpower, Volt, Adecco, Radiant Systems, and Kelly Services, Boise, Idaho, who became totally or partially separated from employment on or after October 29, 2008, through February 1, 2012, and all workers in the group threatened with total or partial separation from employment on date of certification through two years from the date of certification, are eligible to apply for adjustment assistance under Chapter 2 of Title II of the Trade Act of 1974, as amended.

Signed in Washington, DC, this 8th day of July, 2010.
Elliott S. Kushner,
Certifying Officer, Division of Trade Adjustment Assistance.

[FR Doc. 2010-17388 Filed 7-15-10; 8:45 am]

BILLING CODE 4510-FN-P